DEPARTMENT OF COMMERCE

National Oceanic and Atmospheric Administration

[RTID 0648-XF103]

Marine Mammals and Endangered Species

AGENCY: National Marine Fisheries Service (NMFS), National Oceanic and Atmospheric Administration (NOAA), Commerce.

ACTION: Notice; issuance of a permit.

SUMMARY: Notice is hereby given that a permit has been issued under the Marine Mammal Protection Act (MMPA).

ADDRESSES: The permits and related documents are available for review upon written request via email to NMFS.Pr1Comments@noaa.gov.

FOR FURTHER INFORMATION CONTACT: Shasta McClenahan, Ph.D.; at (301) 427-8401.

SUPPLEMENTARY INFORMATION: The requested permit has been issued under the MMPA of 1972, as amended (16 U.S.C. 1361 et seq.), and the regulations governing the taking and importing of marine mammals (50 CFR part 216). A notice was published in the Federal Register on the date listed below that a request for a permit had been submitted. To locate the Federal Register notice that announced our receipt of the application and a complete description of the activities, go to https://www.federalregister.gov and search for the file number provided in table 1 below.

Table 1—Issued Permit
File No. | Version No. | RTID | Applicant | Previous Federal Register notice | Issuance date
28919 | N/A | 0648-XE903 | Matthieu Haentjens, 707 Boyce Road, Friday Harbor, WA 98250 | 90 FR 22246, May 27, 2025 | July 2, 2025.

In compliance with the National Environmental Policy Act of 1969 (42 U.S.C. 4321 et seq.), a final determination has been made that the activities proposed are categorically excluded from the requirement to prepare an environmental assessment or environmental impact statement.

Dated: August 25, 2025.
Shannon Bettridge,
Chief, Marine Mammal and Sea Turtle Conservation Division, Office of Protected Resources, National Marine Fisheries Service.

[FR Doc. 2025-16455 Filed 8-27-25; 8:45 am]

BILLING CODE 3510-22-P